Proclamation 10952 of June 13, 2025

250th Anniversary of the Founding of the United States Army

By the President of the United States of America

A Proclamation

On June 14, 1775, the sword and shield of our Republic were forged when the Second Continental Congress voted to establish what would later become the United States Army. Today, our Nation proudly celebrates 250 years of our Army's strength, service, valor, and discipline. We honor its heroic legacy as the guardian of our sovereignty and our fortress against tyranny—and we pay tribute to the millions of warriors who live by the motto: This We'll Defend.

Following the first shots of the Revolutionary War at Lexington and Concord on April 19, 1775, it became clear to the patriots that—despite their persistent efforts for peace—war against the British was necessary as a final recourse in defense of their freedom. In the wake of the Boston Massacre, the Intolerable Acts, and the enduring injustice of taxation without representation, they established the First Continental Congress in the fall of 1774 to formally address their grievances. After dozens of patriots perished at Lexington and Concord, the Colonies reconvened—and by June 14, the delegates had decided that there was only one path forward.

On that spring day, in a momentous act of unity and resolve, the Congress passed a resolution to formally establish the instrument of our national defense in the form of the Continental Army. “Resolved, that six companies of expert riflemen, be immediately raised in Pennsylvania, two in Maryland, and two in Virginia” the resolution reads.

With the passing of that fateful resolution, the scattered militias of the American Colonies banded together as a single force—boldly declaring that they would never waver in defense of their liberty and their home. The next day, George Washington was unanimously appointed as the Continental Army's Commander-in-Chief. Weeks later, on July 3, 1775, he took charge of his Army in Cambridge, Massachusetts. “It is hoped that all Distinctions of Colonies will be laid aside so that one and the same Spirit may animate the whole, and the only Contest be, who shall render, on this great and trying occasion, the most essential service to the Great and common cause in which we are all engaged,” he wrote.

In the days, weeks, and years that followed, that very same Army shocked the Redcoats at Trenton and Princeton, won their first great victory at Saratoga, secured the cause of independence at Yorktown, preserved the Union at Gettysburg, held the line at Chateau-Thierry, stormed the bloody beaches of Normandy, and to this day, gallantly defends our inheritance of freedom against every foe with unmatched tenacity, courage, and strength. What was first formed as a ragtag army of farmers, frontiersmen, blacksmiths, and merchants now stands as the most dominant military force ever born of human will—guided by the promise to support and defend the Constitution of the United States against all enemies, foreign and domestic.

To ensure our Army's storied legacy continues well into the future, as President, I have purged the sinister ideology of “Diversity, Equity, and Inclusion” from the ranks of our military. I directed the Department of Defense to update its guidance regarding transgender—identifying medical standards to ensure our military remains the most lethal in the world. In a long overdue redress of injustice, I reinstated American service members who were dismissed for refusing the COVID vaccine, with full back pay and benefits. Every day, I am restoring a foreign policy of peace through strength—and as a result, military recruitment is soaring to historic highs. Under my leadership, the United States military will remain the mightiest, fiercest, boldest, and most revered in the entire world.

On this 250th anniversary of the founding of the United States Army, we pay tribute to every legend of liberty who sacrificed their life to keep America safe, sovereign, and free. As my Administration continues the work of protecting our homeland and upholding our way of life, we proudly summon the spirit, confidence, and resolve of the intrepid men who won our independence on the battlefield 250 years ago—and we vow that their legacy of courage will never perish, and that our sacred birthright of freedom will never, ever die.

NOW, THEREFORE, I, DONALD J. TRUMP, President of the United States of America, by virtue of the authority vested in me by the Constitution and the laws of the United States, do hereby proclaim June 14, 2025, as a day in commemoration of the 250th anniversary of the founding of the United States Army. This We'll Defend.

IN WITNESS WHEREOF, I have hereunto set my hand this thirteenth day of June, in the year of our Lord two thousand twenty-five, and of the Independence of the United States of America the two hundred and forty-ninth.

[FR Doc. 2025-11362

Filed 6-17-25; 11:15 am]

Billing code 3395-F4-P